DEPARTMENT OF THE TREASURY

Financial Access Activities; Comment Request.

AGENCY: Department of the Treasury.

ACTION: Notice and request for public comment.

SUMMARY: This notice invites comments from the public regarding how the Treasury's Office of Financial Education and Financial Access (OFEFA) can design, implement and administer certain financial access activities authorized in section 1204 of the Dodd-Frank Wall Street Reform and Consumer Protection Act (the Act), to expand access to mainstream financial institutions. Section 1204 authorizes Treasury to establish a multi-year program of grants, cooperative agreements, financial agency agreements and similar projects and undertakings, subject to availability of funding.

DATES: All comments and submissions must be received by November 14, 2011.

ADDRESSES: Comments may be sent by mail to: Louisa Quittman, Office of Financial Education and Financial Access, U.S. Department of the Treasury, 1500 Pennsylvania Ave., NW., Washington, DC 20220 or by e-mail to: ofe@treasury.gov, by facsimile to (202) 622-6243. Please note this is not a toll free number. In general, OFEFA will make all comments and materials submitted available in their original format, including any business or personal information provided such as names, addresses, e-mail addresses, or telephone numbers, for public inspection and photocopying in the Department's library, Room 1428, Main Treasury Building, 1500 Pennsylvania Avenue, NW., Washington, DC 20220, on official business days between the hours of 10 a.m. and 5 p.m. You can make an appointment to inspect comments by calling (202) 622-0990. You should only submit information that you wish to make publicly available.

FOR FURTHER INFORMATION CONTACT: Information about OFEFA can be found at http://www.ustreas.gov/offices/domestic-finance/financial-institution/fin-education. You may also contact Louisa Quittman, Director of Community Programs, U.S. Department of the Treasury, 1500 Pennsylvania Avenue, Washington, DC 20220 at (202) 622-5770 or ofe@treasury.gov.

SUPPLEMENTARY INFORMATION: Section 1204 of Title XII of the Act authorizes the Secretary of the Treasury to establish a multi-year program of grants, cooperative agreements, financial agency agreements, and similar contracts or undertakings to promote initiatives designed to: (1) Enable low- and moderate-income individuals to establish one or more accounts in a federally insured depository institution that are appropriate to meet the financial needs of such individuals and (2) improve access to the provision of such accounts, on reasonable terms, for low- and moderate-income individuals. Section 1204 also authorizes, subject to regulations prescribed by Treasury, recipients of such grants or cooperative agreements to provide low- and moderate-income individuals with small-dollar value loans and financial education and counseling relating to conducting transactions in and managing accounts.¹

¹ 12 U.S.C. 5623.

The Treasury expects to develop and implement activities to enable eligible entities to develop and provide account products and services that are appropriate and accessible for low- and moderate- income individuals who are not fully incorporated into the financial mainstream.

OFEFA invites comments and suggestions on potential activities, particularly those activities that may not require additional appropriations. OFEFA is particularly interested in comments in the following areas:

(1) Program Focus

Section 1204(a) of the Act states that the Secretary is authorized to establish a multi-year program of grants, cooperative agreements, financial agency agreements, or similar contracts or undertakings to promote initiatives designed to: (1) Enable low- and moderate-income individuals to establish one or more accounts in a federally insured depository institution that are appropriate to meet the financial need of such individuals; and (2) improve access to the provision of accounts, on reasonable terms, for low- and moderate-income individuals. The Treasury welcomes comments on issues related to the purpose and intent of the section 1204 program, particularly with respect to the following questions:

(a) What types of program initiatives should the Treasury promote to enable low- and moderate-income individuals to establish accounts in federally insured depository institutions?

(b) How should the Treasury evaluate whether an account in a federally insured depository institution is “appropriate” to meet the financial needs of low- and moderate-income individuals? What account features and terms are “reasonable” to meet the financial needs of low- and moderate-income individuals in an appropriate manner?

(c) What level of financial access should be the desired outcome of such initiatives? What other measures of success of the initiatives should be considered?

(d) How can the Treasury enable, enhance and assist local, regional, and state start-up collaborations that incorporate low- and moderate- income individuals into the financial mainstream? How can existing collaborations be supported to expand or improve their financial access efforts? How could meaningful innovations be fostered by these collaborations?

(e) How could the Treasury best encourage high-quality financial education and counseling relating to conducting transactions in and managing accounts?

(f) What could be done to promote innovation within the development of sustainable financial services and products related to accounts? Are there opportunities for innovation in account products, services, delivery channels, or other areas that could be effectively addressed through the use of prizes, awards, and competitions? If so, what prizes or awards would be necessary to help promote account innovations?

(2) General Comments

The Treasury is interested in comments on how it can encourage activities that enable low- and moderate-income individuals to establish one or more accounts in a federally insured depository institution and to improve access to the provision of such accounts. Additionally, we are interested in comments regarding other ways (in addition to the provision of accounts in federally insured depository institutions) for the Treasury to consider helping individuals obtain access to accounts with appropriate consumer protections and federal deposit insurance. Lastly, we are interested in comments on what should be done to support innovative approaches to the delivery of financial education and counseling to increase the financial capability of individuals and families more broadly?

Dated: August 30, 2011.
Rebecca Ewing,
Acting Executive Secretary.

[FR Doc. 2011-23235 Filed 9-12-11; 8:45 am]

BILLING CODE 4810-25-P